ENVIRONMENTAL PROTECTION AGENCY

[EPA-HQ-OPPT-2018-0406; FRL-9985-20]

Certain New Chemical Substances; Receipt and Status Information for July 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA section 5, including notice of receipt of a Premanufacture Notice (PMN), Significant New Use Notice (SNUN) or Microbial Commercial Activity Notice (MCAN), including an amended notice or test information; an exemption application (Biotech exemption); an application for a Test Marketing Exemption (TME), both pending and/or concluded; a Notice of Commencement (NOC) of manufacture (including import) for new chemical substances; and a periodic status report on new chemical substances that are currently under EPA review or have recently concluded review. This document covers the period from July 1, 2018 to July 31, 2018.

DATES: Comments identified by the specific case number provided in this document must be received on or before November 21, 2018.

ADDRESSES: Submit your comments, identified by docket identification (ID) number EPA-HQ-OPPT-2018-0406, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from July 1, 2018 to July 31, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Received From 7/1/2018 to 7/31/2018
Case No. | Version | Received date | Manufacturer | Use | Chemical substance
J-18-0028 | 1 | 7/3/2018 | DSM BioProducts & Services | (G) Ethanol production from the fermentation of C-6 sugars | (G) Saccharomyces cerevisiae modified.
J-18-0029 | 1 | 7/3/2018 | DSM BioProducts & Services | (G) Ethanol production from the fermentation of C-6 sugars | (G) Saccharomyces cerevisiae modified.
J-18-0030 | 1 | 7/3/2018 | DSM BioProducts & Services | (G) Ethanol production from the fermentation of C-6 sugars | (G) Saccharomyces cerevisiae modified.
J-18-0038A | 2 | 7/2/2018 | CBI | (G) Biopolymer Production | (G) Biopolymer producing modified microorganism(s) with chromosomally-borne modifications.
J-18-0039A | 2 | 7/2/2018 | CBI | (G) Biopolymer Production | (G) Biopolymer producing modified microorganism(s) with chromosomally-borne modifications.
P-16-0180A | 3 | 6/25/2018 | CBI | (S) Component of industrial and maintenance coatings | (G) Isocyanic acid, polymethylenepolyphenylene ester, polymer with a-hydro-w-hydroxypoly[oxy(methyl-1,2-ethanediyl)] and alkylene oxide polymer, alkylamine initiated.
P-16-0275A | 2 | 7/12/2018 | CBI | (G) Surfactant, (G) None | (G) Rhamnolipid salt, (G) Rhamnolipids.
P-16-0275A | 3 | 7/21/2018 | CBI | (G) Surfactant, (G) None | (G) Rhamnolipid salt, (G) Rhamnolipids.
P-16-0276A | 2 | 7/12/2018 | CBI | (G) Surfactant, (G) None | (G) Rhamnolipid salt, (G) Rhamnolipids.
P-16-0276A | 3 | 7/21/2018 | CBI | (G) Surfactant, (G) None | (G) Rhamnolipid salt, (G) Rhamnolipids.
P-17-0347A | 3 | 7/17/2018 | Sasol Chemicals (USA) LLC | (G) Oilfield Surfactant | (S) Oxirane, 2-methyl-, polymer with oxirane, mono(2-butyloctyl) ether.
P-17-0348A | 3 | 7/17/2018 | Sasol Chemicals (USA) LLC | (G) Oilfield Surfactant | (S) Oxirane, 2-methyl-, polymer with oxirane, mono(2-hexyldecyl) ether.
P-17-0349A | 3 | 7/17/2018 | Sasol Chemicals (USA) LLC | (G) Oilfield Surfactant | (S) Oxirane, 2-methyl-, polymer with oxirane, mono(2-octyldodecyl) ether.
P-17-0350A | 3 | 7/17/2018 | Sasol Chemicals (USA) LLC | (G) Oilfield Surfactant | (S) Oxirane, 2-methyl-, polymer with oxirane, mono(2-decyltetradecyl) ether.
P-17-0351A | 3 | 7/17/2018 | Sasol Chemicals (USA) LLC | (G) Oilfield Surfactant | (S) Oxirane, 2-methyl-, polymer with oxirane, mono(2-dodecylhexadecyl) ether.
P-17-0352A | 3 | 7/17/2018 | Sasol Chemicals (USA) LLC | (G) Oilfield Surfactant | (S) Oxirane, 2-methyl-, polymer with oxirane, mono(2-tetradecyloctadecyl) ether.
P-17-0398A | 8 | 7/20/2018 | Nexus Fuels | (G) Stock use, (G) Wax-Component of complex formulations for blending | (G) Branched cyclic and linear hydrocarbons from plastic depolymerization.
P-17-0399A | 8 | 7/20/2018 | Nexus Fuels | (G) Stock use, (G) Wax-Component of complex formulations for blending | (G) Alkane, alkene, styrenic compounds derived from plastic depolymerization.
P-18-0028A | 4 | 7/20/2018 | Nexus Fuels | (G) Blending stock | (G) Branched cyclic and linear hydrocarbons from plastic depolymerization.
P-18-0031A | 5 | 7/10/2018 | CBI | (G) Ingredient for industrial coating | (G) Substituted dicarboxylic acid, polymer with various alkanediols.
P-18-0036A | 4 | 7/19/2018 | Bluestar Silicones USA Corp | (G) Water repellant | (S) Siloxanes and silicones, di-me, 3-[3-carboxy-2(or 3)-(octenyl)-1-oxopropoxy]propyl group-terminated.
P-18-0042A | 6 | 7/16/2018 | Myriant Corporation | (G) Industrial Coating | (S) 2,5-furandione, polymer with 2-ethyl-2-(hydroxymethyl)-1,3-propanediol, 3a,4,5,6,7,7a-hexahydro-4,7-methano-1h-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0049A | 4 | 6/28/2018 | CBI | (G) Coating component/processing aid | (G) Mixed metal halide.
P-18-0050A | 3 | 6/21/2018 | CBI | (G) Raw material in industrial coatings | (G) Alkane, diisocyanato-, homopolymer, alkyl dihydrogen phosphate- and polyalkylene glycol mono-alkyl ether-.
P-18-0057A | 7 | 7/5/2018 | CBI | (S) A drier accelerator that is used for superior drying performance in solvent-borne and waterborne air dried paints, inks and coatings | (S) Vanadium, tris(2-ethylhexanoato-ko)tri-μ-oxotri-, cyclo.
P-18-0104A | 4 | 6/21/2018 | CBI | (S) Halogen free flame retardant in thermoplastic polymers | (G) Acrylic acid, reaction products with pentaerythritol, polymerized.
P-18-0129A | 3 | 7/23/2018 | CBI | (G) Intermediate used for chemical production | (S) Benzenepropanal, alpha, alpha, 3-trimethyl-.
P-18-0152A | 4 | 7/5/2018 | CBI | (G) Intermediate for use in manufacturing | (G) Hydrolyzed functionalized di-amino silanol polymer.
P-18-0155A | 3 | 6/25/2018 | CBI | (G) Component in cement | (G) Crosslinked polymer of alkyl acrylamides, acrylate esters, and alkyl acrylamide sulfonate salt.
P-18-0156A | 3 | 6/25/2018 | CBI | (G) Component in cement | (G) Crosslinked polymer of alkyl acrylamides, acrylate esters, and alkyl acrylamide sulfonic acid.
P-18-0162A | 4 | 7/19/2018 | CBI | (G) Adhesive component | (G) Cashew nutshell liquid, polymer with diisocyanatoalkane, substituted-polyoxyalkyldiol and polyether polyol.
P-18-0170A | 4 | 7/10/2018 | CBI | (G) Textile treatment | (S) 1-propanaminium, n,n′-(oxydi-2,1-ethanediyl)bis[3-chloro-2-hydroxy-n,n-dimethyl-, dichloride.
P-18-0175A | 3 | 7/12/2018 | Hexion Inc | (S) Non-food contact can coating, (S) Food can coating | (S) Formaldehyde, polymer with 4-(1,1-dimethylethyl)phenol and phenol, bu ether.
P-18-0184A | 2 | 7/13/2018 | CBI | (G) Component in printing plates, (G) Coating component | (G) Halide, bis alkylaromatic, polyaromatic non-metal salt.
P-18-0210A | 4 | 7/11/2018 | CBI | (G) Intermediate | (G) Phosphonomethylated ether diamine.
P-18-0212A | 2 | 6/26/2018 | Allnex USA Inc | (S) Coating resin for improved appearance and adhesion | (G) Substituted carbomonocycle, polymer with alkyl alkenoate, alkenyl substituted carbomonocycle, substituted alkanediol, heteropolycycle, alkylene glycol and alkenoic acid, compd. with alkylamino alkanol.
P-18-0217A | 3 | 6/26/2018 | Galata Chemicals LLC | (S) Stabilizer for PVC compound | (G) Alkyltin dodecylthioester.
P-18-0218A | 3 | 6/26/2018 | Galata Chemicals LLC | (S) Stabilizer for PVC compound | (G) Alkyltin tetradecylthioester.
P-18-0219A | 4 | 7/2/2018 | CBI | (G) Intermediate for topcoat | (G) Polythioether, short chain diol polymer terminated with aliphatic diisocyanate.
P-18-0223 | 1 | 6/26/2018 | Clariant Corporation | (S) Selectivity improver for catalysts used in the production of polyolefins | (G) Alkane, bis(alkoxymethyl)-dimethyl-.
P-18-0224A | 3 | 6/27/2018 | CBI | (G) Component of ink | (G) Alkenoic acid, polymer with alkenylcarbomonocycle, [alkanediylbis(substitutedalkylene)] bis[heteromonocycle] and (alkylalkenyl) aromatic, salt.
P-18-0225A | 3 | 6/27/2018 | CBI | (G) Component of ink | (G) Alkenoic acid, polymer with substituted alkyloxirane, alkenylcarbomonocycle, alkyl substituted alkyl alkanediol and (alkylalkenyl) aromatic salt.
P-18-0226A | 3 | 7/10/2018 | CBI | (G) Anti-agglomerate | (G) Tri alkyl, mono alkoxy, fatty acid ester, ammonium salt.
P-18-0227 | 1 | 6/29/2018 | CBI | (G) Corrosion inhibitor, (G) Chemical intermediate | (S) D-glucaric acid.
P-18-0230 | 1 | 6/29/2018 | Clariant Plastics & Coatings USA Inc | (S) Lubricant and surface protection agent | (S) Waxes and waxy substances, rice bran, oxidized, calcium salts.
P-18-0231 | 1 | 6/29/2018 | Allnex USA Inc | (S) Waterborne UV curable coating resin binder for inkjet, ink or overprint varnish | (G) Alkanoic acid, substituted alkyl-, polymer with isocyanatoalkane, alkyl carbonate, alkanediol and polyalkylene glycol ether with alkyl(substituted alkyl) alkanediol alkenoate, glycerol monoacrylate alkanoate-blocked.
P-18-0232 | 1 | 7/5/2018 | Clariant Corporation | (S) Hydrogen sulfide scavenger in oil and gas applications | (G) Polyol, reaction products with formaldehyde and methanol.
P-18-0233 | 1 | 7/6/2018 | CBI | (G) Coating agent | (G) Alkyl alkenoic acid, alkyl ester, telomer with alkylthiol, substituted carbomonocycle, substituted alkyl alkyl alkenoate and hydroxyalkyl alkenoate, tert-butyl alkyl peroxoate-initiated.
P-18-0234 | 1 | 7/6/2018 | Eastman Kodak Company | (G) Coating component | (G) Alkenoic acid, reaction products with bis substituted alkane and ether polyol.
P-18-0234A | 2 | 7/11/2018 | CBI | (G) Coating component | (G) Alkenoic acid, reaction products with bis substituted alkane and ether polyol.
P-18-0234A | 4 | 7/24/2018 | CBI | (G) Coating component | (G) Alkenoic acid, reaction products with bis substituted alkane and ether polyol.
P-18-0235A | 2 | 7/23/2018 | CBI | (S) Component in automotive gasoline/transportation fuel for consumer use | (G) Naphtha oils.
P-18-0236 | 1 | 7/11/2018 | The Sherwin Williams Company | (G) Paint additive | (G) Metal, alkenoic acid, alkyl substituted alkenoate polymer carbopolycycle complexes.
P-18-0237A | 3 | 7/19/2018 | CBI | (G) Use in print resins | (G) Alkanediol, polymer with 5-isocyanato-1-(isocyanatomethyl)-1,3,3-trimethylcyclohexane, alkylaminoalkyl methacrylate-, and dialkylheteromonocycle-blocked.
P-18-0238 | 1 | 7/16/2018 | Georgia-Pacific Chemicals LLC | (S) Binder for wood panels | (G) Saccharide reaction products with acid anhydride, etherified.
P-18-0239 | 1 | 7/16/2018 | CBI | (G) Reactant in coating | (G) N-alkyl propanamide.
P-18-0240 | 1 | 7/16/2018 | CBI | (G) Reactant in coating | (G) N-alkyl acetamide.
P-18-0241 | 1 | 7/16/2018 | CBI | (G) Necessary precursor for automotive coating | (G) 2-propenoic acid, 2-methyl-, methyl ester, polymer with ethenylbenzene, ethyl 2-propenoate, substituted-alkyl-2-propenoate, 2-oxiranylmethyl 2-methyl-2-propenoate and 1,2-propanediol mono(2-methyl-2-propenoate), reaction products with diethanolamine, formats (salts).
P-18-0242 | 1 | 7/16/2018 | CBI | (G) Necessary precursor for automotive coating | (G) 2-propenoic acid, 2-methyl-, methyl ester, polymer with ethenylbenzene, ethyl 2-propenoate substituted-alkyl-2-propenoate, 2-oxiranylmethyl 2-methyl-2-propenoate and 1,2-propanediol mono(2-methyl-2-propenoate), reaction products with diethanolamine, acetates (salts).
P-18-0243 | 1 | 7/16/2018 | CBI | (G) Necessary precursor for automotive coating | (G) 2-propenoic acid, 2-methyl-, methyl ester, polymer with ethenylbenzene, ethyl 2-propenoate, substituted-alkyl-2-propenoate, 2-oxiranylmethyl 2-methyl-2-propenoate and 1,2-propanediol mono(2-methyl-2-propenoate), reaction products with diethanolamine, sulfamates (salts).
P-18-0244 | 1 | 7/16/2018 | CBI | (G) Necessary precursor for automotive coating | (G) 2-propenoic acid, substituted-alkyl-2-propenoate, polymer with ethenylbenzene, ethyl 2-propenoate, methyl 2-methyl-2-propenoate, 2-oxiranylmethyl 2-methyl-2-propenoate and 1,2-propanediol mono(2-methyl-2-propenoate), reaction products with diethanolamine, formats (salts).
P-18-0245 | 1 | 7/16/2018 | CBI | (G) Necessary precursor for automotive coating | (G) 2-propenoic acid, 2-methyl-, methyl ester, polymer with ethenylbenzene, ethyl 2-propenoate, 2-oxiranylmethyl 2-methyl-2-propenoate, 1,2-propanediol mono(2-methyl-2-propenoate) and substituted-alkyl-2-propenoate, reaction products with diethanolamine, formats (salts).
P-18-0246 | 1 | 7/16/2018 | CBI | (G) Necessary precursor for automotive coating | (G) 2-propenoic acid, substituted-alkyl-2-propenoate, polymer with ethenylbenzene, ethyl 2-propenoate, methyl 2-methyl-2-propenoate, 2-oxiranylmethyl 2-methyl-2-propenoate and 1,2-propanediol mono(2-methyl-2-propenoate), reaction products with diethanolamine, acetates (salts).
P-18-0247 | 1 | 7/18/2018 | CBI | (S) Crosslinker for automotive electrocoat | (G) Isocyanic acid, polymethylenepolyphenylene ester, polymer with 2-ethyl-2-(hydroxymethyl)-1,3-propanediol, polyetherpolyol, alpha, alpha′-[(1-methylethylidene)di-4,1-phenylene]bis[omega-hydroxypoly(oxy-1,2-ethanediyl)] and 1,2-propanediol, iso-bu alc.- and 2-butoxyethanol- and 2-(2-butoxyethoxy)ethanol- and et alc.- and methanol- and 1-methoxy-2-propanol-blocked.
P-18-0248 | 1 | 7/18/2018 | CBI | (S) Crosslinker for automotive electrocoat | (G) Isocyanic acid, polymethylenepolyphenylene ester, polymer with polyetherpolyol, 2-butoxyethanol- and 2-(2-butoxyethoxy)ethanol- and methanol-blocked.
P-18-0249 | 1 | 7/18/2018 | CBI | (S) Crosslinker for automotive electrocoat | (G) Isocyanic acid, polymethylenepolyphenylene ester, polymer with polyetherpolyol, 2-butoxyethanol- and 2-(2-butoxyethoxy)ethanol- and methanol- and 1-methoxy-2-propanol-blocked.
P-18-0250 | 1 | 7/18/2018 | CBI | (S) Crosslinker for automotive electrocoat | (G) Isocyanic acid, polymethylenepolyphenylene ester, polymer with polyetherpolyol, 2-butoxyethanol- and 2-(2-butoxyethoxy)ethanol- and 1(or2)-(2-methoxymethylethoxy)propanol-blocked.
P-18-0251 | 1 | 7/18/2018 | CBI | (S) Crosslinker for automotive electrocoat | (S) Isocyanic acid, polymethylenepolyphenylene ester, 2-butoxyethanol- and 2-(2-butoxyethoxy)ethanol- and methanol- and 1(or2)-(2-methoxymethylethoxy)propanol-blocked.
P-18-0252 | 1 | 7/18/2018 | CBI | (S) Crosslinker for automotive electrocoat | (S) Isocyanic acid, polymethylenepolyphenylene ester, 2-butoxyethanol- and 2-(2-butoxyethoxy)ethanol- and methanol- and 1-methoxy-2-propanol-blocked.
P-18-0253 | 1 | 7/20/2018 | UBE America Inc | (G) Extrusion and Injection Molding Polymer | (S) Dodecanoic acid, 12-amino-, homopolymer.
P-18-0254 | 1 | 7/20/2018 | UBE America Inc | (G) Extrusion and Injection Molding Polymer | (G) Hexanedioic acid, polymer with 12-aminododecanoic acid and a polyetheramine.
P-18-0255 | 1 | 7/20/2018 | UBE America Inc | (G) Recreational equipment | (S) Dodecanoic acid, 12-amino-, polymer with hexahydro-2h-azepin-2-one.
P-18-0256 | 1 | 7/20/2018 | CBI | (G) Chemical Intermediate, (G) Solvent | (S) Undecanol, branched.
P-18-0257 | 1 | 7/23/2018 | Everris NA Inc | (S) Inorganic Fertilizer | (S) Phosphoric acid, potassium salt (2:3).
P-18-0258 | 1 | 7/23/2018 | CBI | (G) Copolyamide for Monofilament, (G) Copolyamide for Packaging Films, (G) Copolyamide for Molding Parts | (G) Dioic acids, polymers with caprolactam and alkyldiamines.
P-18-0259 | 1 | 7/23/2018 | CBI | (G) Copolyamide for Monofilament, (G) Copolyamide for Packaging Films, (G) Copolyamide for Molding Parts | (G) Fatty acids, dimers, hydrogenated, polymers with caprolactam and alkyl diamine.
P-18-0260 | 1 | 7/26/2018 | Allnex USA Inc | (S) Binder for wood stains | (G) Fatty acids, polymers with alkanoic acid and substituted carbomonocycle, peroxide-initiated, polymers with alkanoic acid esters and substituted carbomonocycle, ammonium salts.
P-18-0261 | 1 | 7/26/2018 | CBI | (G) Polymer composite additive | (G) Metal, alkylcarboxylate oxo complexes.
P-18-0263 | 1 | 7/27/2018 | CBI | (G) Solution additive | (G) Mixed alkyl esters-, polymer with n1-(2-aminoethyl)- 1,2-ethanediamine, aziridine, n-acetyl derivs., acetates (salts).
P-18-0264 | 1 | 7/27/2018 | CBI | (G) Intermediate | (G) Phosphonomethylated ether diamine.
SN-18-0004A | 3 | 7/5/2018 | CBI | (S) This SNUN is a request to incorporate PMN substance P-12-0044 as an anti-corrosion additive and/or strengthening additive for use in epoxy compounds for coatings, paints and composites | (S) Functionalized multiwall carbon nanotubes.
SN-18-0004A | 3 | 7/5/2018 | CBI | (S) This SNUN is a request to incorporate PMN substance P-12-0044 as an anti-corrosion additive and/or strengthening additive for use in epoxy compounds for coatings, paints and composites | (S) Functionalized multiwall carbon nanotubes.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—TMEs Received From 7/1/2018 to 7/31/2018
Case No. | Submission type | Version | Received date | Manufacturer | Use | Chemical substance
T-18-0003A | SS78 | 2 | 07/16/2018 | CBI | (G) Additive | (G) Alkylated diphenylamines, homopolymers.

In Table III. of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact information, etc.) and chemical substance identity.

Table III—NOCs Received From 7/1/2018 to 7/31/2018
Case No. | Received date | Commencement date | If amendment, type of amendment | Chemical substance
P-11-0182 | 7/20/2018 | 10/23/2017 | N | (S) Poly(oxy-1,4-butanediyl), .alpha.-hydro-.omega.-hydroxy-, polymers with hydroxy-terminated polybutadiene and 5-isocyanato-1-(isocyanatomethyl)-1,3,3-trimethylcyclohexane, 4-methoxyphenol-blocked.
P-13-0253A | 7/20/2018 | 5/18/2018 | Y | (G) Alkoxy substituted carbopolycyclemethyl.
P-13-0253A | 7/11/2018 | 5/18/2018 | Y | (G) 3,4-bis(alkoxy)-4-(carbopolycyclemethyl)-.
P-13-0289 | 6/27/2018 | 6/13/2018 | N | (G) Alkanoic acid, tetramethylheteromonocycle ester.
P-13-0878A | 7/19/2018 | 5/9/2018 | Y | (G) 2-propenoic acid, reaction products with tris (2-hydroxyethyl) isocyanurate.
P-14-0125 | 7/25/2018 | 4/26/2018 | N | (S) 1-octadecanaminium, n-(3-chloro-2-hydroxypropyl)-n,n-dimethyl-, chloride (1:1).
P-14-0314A | 7/13/2018 | 4/6/2018 | Y | (G) Poly oxy aliphatic halogenated phosphate.
P-14-0471A | 7/19/2018 | 5/9/2018 | Y | (G) Hexanedioic acid, polymer with 2-(chloromethyl) oxirane polymer with isocyanato acrylate blocked, cmpds with triethylamine.
P-14-0472 | 7/9/2018 | 6/14/2018 | N | (G) Polyphosphoric acids, [(alkyl-oxo-2-propen-1-yl)oxy]ethyl esters, compds. with n-(aminoiminomethyl)urea.
P-15-0368 | 7/11/2018 | 5/13/2016 | N | (S) Starch, acid-hydrolyzed, 3-(trimethylammonio)propyl ether, bromide.
P-15-0652 | 7/3/2018 | 6/12/2018 | N | (G) Dicarboxylic acids, polymers with alkyl prop-2-enoate, alkanediol, 2-substituted alkyl 2-methylprop-2-enoate, 3-substituted-2-(substituted alkyl)-2-alkylpropanoic acid, 5-isocyanato-1-(isocyanatoalkyl)-1,3,3-trialkylcycloalkane, alkanedioic acid, methyl 2-methylprop-2-enoate and vinyl carbomonocycle compds. with trialkyl amine.
P-16-0588A | 7/17/2018 | 5/13/2018 | Y | (G) Alkyl methacrylate, polymer with alkyl acrylate and polyesters.
P-17-0343A | 7/19/2018 | 4/9/2018 | Y | (G) Heteropolycyclic-alkanol, carbomonocycle-alkanesulfonate.
P-18-0017 | 6/29/2018 | 6/29/2018 | N | (G) Substituted carbomonocycle, polymer with substituted heteromonocycle and substituted polyalkylene glycol.
P-18-0044 | 7/11/2018 | 6/13/2018 | N | (G) Fatty acids.
P-18-0045 | 7/18/2018 | 7/17/2018 | N | (G) Fatty acids, alkyl esters.
P-18-0046 | 7/2/2018 | 6/29/2018 | N | (G) Substituted carbomonocycle, polymer with diisocyanatoalkane, substituted alkylacrylate-blocked.
P-18-0071 | 7/26/2018 | 7/23/2018 | N | (G) Aromatic dicarboxylic acid, compound with alkane diamines, polymer with alkane diamine and dicarboxylic acid.
P-18-0079 | 7/26/2018 | 7/23/2018 | N | (G) Aromatic dicarboxylic acid, compound with alkyl diamines, homopolymer.

In Table IV. of this unit, EPA provides the following information (to the extent such information is not subject to a CBI claim) on the test information received by EPA during this time period: The EPA case number assigned to the test information; the date the test information was received by EPA, the type of test information submitted, and chemical substance identity.

Table IV—Test Information Received From 7/1/2018 to 7/31/2018
Case No. | Received date | Type of test information | Chemical substance
P-16-0404 | 7/3/2018 | Color Fastness Local Lymph Node Assay (OECD 442b) Bacterial Mutation Assay (OECD 471) | (G)- Alkyl ester, 2-({4-[2-(trisubstituted phenyl)azo]-5-acetamido-2-substitutedphenyl}(substituted alkoxy)amino).
P-17-0200 | 7/3/2018 | Fresh Water Algal Growth Inhibition Test with [CBI] (OECD 201) | (G) 1,3-bis(substitutedbenzoyl)benzene.
P-18-0052 | 7/9/2018 | Surface Tension Testing | (G) Perfluoroalkylethyl- and vinyl-modified Organopolysiloxane.
P-18-0053 | 7/9/2018 | Surface Tension Testing | (G) Perfluoroalkylethyl- and vinyl-modified Organopolysiloxane.
P-15-0121 | 7/9/2018 | Algae Growth Inhibition Test (OPPTS 850.1000) | (S) Formaldehyde, polymer with 2-aminocyclopentanemethanamine, 1,4-butanediamine, 1,2-cyclohexanediamine, 1,6-hexanediamine, hexahydro-1H-azepine and 2-methyl-1,5,-pentanediamine.
P-15-0583 | 7/9/2018 | Sediment-Water Life-Cycle Toxicity Test using Spiked Sediment (OECD 233) | (G) Butanedioic acid, alkyl amine, dimethylbutyl ester.
P-16-0438 | 7/10/2018 | Acrolein Cyanohydrin-O-Acetate (ACA) TSCA Workplace Exposure Task and Personnel Protective Equipment Testing, Task Monitoring, PPE sampling, Testing to determine the Effective Organic Vapor Analyzer Response Factor and Detection Limit for ACA | (S) 3-Butenenitrile, 2-(acetyloxy).
P-17-0187 | 7/13/2018 | Primary Skin Irritation Test | (G) Polymer with benzoic acid tetra halogen hydroxy tetrahalogen oxo H xanthenyl alkenylaryl alkyl ester alkalai metal salt, butyl-2-propenoate, ethenyl neodecanoate, methyl-2-methyl-2- propenoate and 2-methyl-2-propenoic acid.
SN-18-0003 | 7/13/2018 | Metals Removal Testing | (S) Lithium nickel oxide (LiNiO2).
P-17-0257 | 7/18/2018 | Dustiness Testing using the Vortex Shaker | (S) Single Walled Carbon Nanotubes.
P-18-0230 | 7/18/2018 | Water Solubility Test (OECD 105) Bovine Corneal Opacity and Permeability Test (OECD 437) | (S) Waxes and Waxy substances, rice bran, oxidized, calcium salts.
P-15-0583 | 7/19/2018 | Anaerobic and Aerobic Aquatic Metabolism Toxicity data (OECD 308) | (G) Butanedioic acid, alkyl amine, dimethylbutyl ester.
P-18-0036 | 7/19/2018 | Skin Sensitization Study (OECD 406) | (G) Siloxanes and Silicones, di-Me, 3-[3-carboxy-2(or 3)-(octenyl)-1-oxopropoxy]propyl group-terminated.

If you are interested in information that is not included in these tables, you may contact EPA's technical information contact or general information contact as described under FOR FURTHER INFORMATION CONTACT to access additional non-CBI information that may be available.

Authority: 15 U.S.C. 2601 et seq.

Dated: October 11, 2018.
Pamela Myrick,
Director, Information Management Division, Office of Pollution Prevention and Toxics.

[FR Doc. 2018-23004 Filed 10-19-18; 8:45 am]

BILLING CODE 6560-50-P